DEPARTMENT OF THE INTERIOR

National Park Service

Notice of Meeting for the National Park Service (NPS) Subsistence Resource Commission (SRC) Program Within the Alaska Region

AGENCY: National Park Service, Interior.

ACTION: Notice of meeting for the National Park Service (NPS) Subsistence Resource Commission (SRC) program within the Alaska Region.

SUMMARY: The NPS announces a SRC meeting for Gates of the Arctic National Park. The purpose of this meeting is to discuss NPS subsistence management issues and continue work on subsistence hunting program recommendations. This meeting is open to the public and will have time allocated for public testimony. The public is welcomed to present written or oral comments. The meeting will be recorded and a summary will be available upon request from the Superintendent for public inspection approximately six weeks after each meeting. The NPS SRC program is authorized under Title VIII, Section 808 of the Alaska National Interest Lands Conservation Act, Pub. L. 96-487, to operate in accordance with the provisions of the Federal Advisory Committee Act.

DATES: The Gates of the Arctic National Park SRC meeting will be held on Wednesday, November 7, 2007 and Thursday, November 8, 2007, from 9 a.m. to 5 p.m., Alaska Standard Time. The meeting may end early if all business is completed.

Location: Sophie Station Hotel, Conference Room, 1717 University Avenue, Fairbanks, AK, telephone: (907) 456-3642.

FOR FURTHER INFORMATION CONTACT: Fred Andersen, Subsistence Manager, telephone: (907) 457-5752 at Gates of the Arctic National Park and Preserve, 4175 Geist Road, Fairbanks, AK 99709.

SUPPLEMENTARY INFORMATION: SRC meeting location and dates may need to be changed based on weather or local circumstances. If the meeting dates and location are changed, notice of the new meeting will be announced on local radio stations and published in local newspapers.

The agenda for the joint meeting includes the following:

1. Call to order (SRC Chair)

2. SRC Roll Call and Confirmation of Quorums

3. SRC Chair and Superintendent's Welcome and Introductions

4. Review and Approve Agenda

5. Status of SRC Membership

6. SRC Member Reports

7. Superintendent and NPS Staff Reports

8. Federal Subsistence Board Update

9. State of Alaska Board Actions Update

10. New Business

11. Agency and Public Comments

12. SRC Work Session

13. Set time and place of next SRC meeting

14. Adjournment

Dated: September 12, 2007.
Judy Gottlieb,
Associate Regional Director, Subsistence and Partnerships, Alaska Region

[FR Doc. E7-20626 Filed 10-18-07; 8:45 am]

BILLING CODE 4312-HK-P